DEPARTMENT OF AGRICULTURE

Forest Service

Cimarron and Comanche National Grasslands; Baca, Las Animas, and Otero Counties, Colorado; Morton and Stevens Counties, Kansas; Land Management Plan Revision

AGENCY: Forest Service, Agriculture (USDA).

ACTION: Notice of intent to initiate the assessment phase of the land management plan revision for the Cimarron and Comanche National Grasslands.

SUMMARY: The Forest Service, U.S. Department of Agriculture, is initiating the land management plan (plan) revision process, pursuant to the 2012 Planning Rule and as directed by the National Forest Management Act, for the Cimarron and Comanche National Grasslands located in Southeast Colorado and Southwest Kansas. Currently, the Cimarron and Comanche National Grasslands receive management direction from the 1984 Pike and San Isabel National Forests and Comanche and Cimarron National Grasslands Land and Resource Management Plan. Ultimately, this process will result in a new, separate plan for the Cimarron and Comanche National Grasslands and will guide all resource management activities on the grasslands for approximately fifteen years, while the remaining portion of the existing 1984 plan for the Pike and San Isabel National Forests will remain unchanged. This notice announces the initiation of the assessment phase, which is the preliminary stage of the plan revision process. The assessment will identify and consider relevant and readily accessible material about ecological, social, and economic conditions and trends in the planning area, including best available scientific information. Findings will be documented in an assessment report. Trends and conditions identified in the assessment will help describe the need to change the plan and inform revision of the plan.

DATES: In spring 2024, the Forest Supervisor of the Pike-San Isabel National Forests and Cimarron and Comanche National Grasslands and staff initiated engagement with Tribes followed by additional outreach to county, state, and other Federal agencies. In April 2024, the Forest Supervisor sent Tribes formal government-to-government invitations to consult on the plan. In addition, in September 2024, the Forest Supervisor sent Tribes invitations to serve as cooperating agencies for the plan revision process. Counties and other local governments will also be given the opportunity to serve as cooperating agencies in the planning process. Extensive engagement with stakeholders, Tribes, Federal government agencies, local governments, and non-profits groups is planned throughout the assessment phase. Interested parties can learn more about dates and formats of planned public engagement opportunities to be held throughout the plan revision process by visiting the Cimarron and Comanche National Grasslands Plan Revision website: https://www.fs.usda.gov/detail/psicc/landmanagement/planning/?cid=FSEPRD1169904.

A draft assessment for public review and comment is anticipated in summer 2025. The Forest Service will review and incorporate public comments and additional information from tribal consultation on the draft assessment and produce a final assessment and need to change the plan that will inform subsequent phases of the plan revision process. The Forest Service may then initiate procedures pursuant to the National Environmental Policy Act (NEPA) to prepare a revised land management plan in compliance with the National Forest System land management planning rule (36 CFR part 219).

ADDRESSES: Send written questions to: Pike-San Isabel National Forests and Cimarron and Comanche National Grasslands, Attn: Grassland Plan Revision, 5575 Cleora Road, Salida, CO 81201. Questions may also be sent electronically to: sm.fs.CCNGRevision@usda.gov. All correspondence, including names and addresses, will be part of the public record.

FOR FURTHER INFORMATION CONTACT: Beth Davis, Forest Planner, 719-429-1385, mary.davis@usda.gov; or Shawna Graves, Public Affairs Officer, 719-466-9122, shawna.graves@usda.gov. Individuals who use telecommunications devices for the hearing impaired may call 711 to reach the Telecommunications Relay Service, 24 hours a day, every day of the year, including holidays.

SUPPLEMENTARY INFORMATION: The National Forest Management Act of 1976 requires that the Forest Service develop a land management plan for every national forest and grassland. Land management plans provide the strategic direction for management of forest or grassland resources and are amendable as conditions change over time. The Pike and San Isabel National Forests and Comanche and Cimarron National Grasslands Land and Resource Management Plan was adopted in 1984. The Cimarron and Comanche National Grasslands (CCNGs) are currently included and managed under the 1984 plan. This planning process will result in a standalone management plan for the CCNGs. The CCNGs include two national grasslands (the Cimarron, 108,621 acres, located in Kansas, and the Comanche, 443,642 acres, located in Colorado) encompassing a total of 552,263 acres of public land. The CCNGs largely consist of isolated and checkerboard parcels with minimal consolidated and contiguous Federal land ownership. The three largest community hubs within the planning area are La Junta and Springfield, Colorado, and Elkhart, Kansas.

The planning rule requires that the Responsible Official complete an assessment for the development of a plan revision (36 CFR 219.6). The assessment rapidly evaluates existing information about relevant ecological, economic, and social conditions, trends, and sustainability and their relationship to the land management plan within the context of the broader landscape (36 CFR 219.5). The assessment must identify and evaluate existing information relevant to the plan area for the following: (1) Terrestrial ecosystems, aquatic ecosystems, and watersheds; (2) Air, soil, and water resources and quality; (3) System drivers, including dominant ecological processes, disturbance regimes, and stressors, such as natural succession, wildland fire, invasive species, and climate change, and the ability of terrestrial and aquatic ecosystems in the plan area to adapt to change; (4) Baseline assessment of carbon stocks; (5) Threatened, endangered, proposed, and candidate species, and potential species of conservation concern present in the plan area; (6) Social, cultural, and economic conditions; (7) Benefits people obtain from the national forest system planning area (ecosystem services); (8) Multiple uses and their contributions to local, regional, and national economies; (9) Recreation settings, opportunities and access, and scenic character; (10); Renewable and nonrenewable energy and mineral resources; (11) Infrastructure, such as recreational facilities and transportation and utility corridors; (12) Areas of tribal importance; (13) Cultural and historic resources and uses; (14) Land status and ownership and access patterns; and (15) Existing designated areas located in the plan area including wilderness and wild and scenic rivers and potential need and opportunity for additional designated areas.

During this assessment phase, the Forest Service invites other government agencies, Tribes, non-governmental parties, and the public to share information about social, economic, and environmental conditions of the CCNGs and the broader landscape. Existing information about conditions on the CCNGs, supplemented with information gathered through public engagement, from cooperating agencies, and Tribal consultation, will be integrated into the assessment. The Forest Service will host public outreach forums to share progress and gather additional information. Information on upcoming engagement opportunities will be posted on the Cimarron and Comanche National Grasslands Plan Revision website: https://www.fs.usda.gov/detail/psicc/landmanagement/planning/?cid=FSEPRD1169904.

Based on knowledge of the planning area, the following will likely be topics of interest and will be discussed in the assessment and subsequent plan development phases: areas of tribal importance; at-risk species and species of conservation concern; livestock grazing; oil and gas development; watersheds and ecological integrity; fragmentation; land ownership patterns; habitat connectivity; paleontological resources; fire management; and renewable energy. The wilderness evaluation and the identification of eligible wild and scenic rivers are also potential topics of interest. Separate evaluations of both will be released concurrently with the assessment and will be included in the plan development phases.

The 1984 Pike and San Isabel National Forests and Comanche and Cimarron National Grasslands Land and Resource Management Plan will remain in effect for the Cimarron and Comanche National Grasslands until the plan revision process is complete and a record of decision is signed.

Responsible Official: The responsible official for the revision of the land management plan for the Cimarron and Commanche National Grasslands is Ryan Nehl, Forest Supervisor, Pike-San Isabel National Forests and Cimarron and Comanche National Grasslands.

Keith Lannom,
Associate Deputy Chief, National Forest System.

[FR Doc. 2024-26049 Filed 11-7-24; 8:45 am]

BILLING CODE 3411-15-P